DEPARTMENT OF TRANSPORTATION

Federal Aviation Administration

Notice of Proposed Information Collection.

AGENCY: Federal Aviation Administration (FAA), DOT.

ACTION: Notice.

SUMMARY: In compliance with the Paperwork Reduction Act (44 U.S.C. 3501 et seq.), the FAA invites public comment on one new public information collection which will be submitted on OMB for approval.

DATES: Comments must be received on or before September 8, 2003.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following collection of information in order to evaluate the necessity of the collection, the accuracy of the agency's estimate of the burden, the quality, utility, and clarity of the information to be collected, and possible ways to minimize the burden of the collection in preparation for submission to approve the clearance of the following information collection.

Following is a summary of the new collection:

Title: Southwest Region Assessment of Aviation Examiners. The Federal Aviation Administration (FAA), through the Civil Aerospace Medical Institute (CAMI), has undertaken an effort to improve aviation safety through collecting data on the quality of flight training and testing. This research requires that information be collected from general aviation (GA) pilots newly certificated by the FAA. Since GA pilot certification testing occurs repeatedly throughout the year, and we wish to capture the opinions and attitudes of respondents soon after their practical test flight. We will need to conduct multiple data collections, however it will be a different respondent each time. We estimate that we will be surveying approximately 1,500 pilots per year. With an average of 1 hour per pilot, the estimated annual reporting burden is 1,500 hours.

Issued in Washington, DC, on June 30, 2003.
Judith D. Street,
FAA Information Collection Clearance Officer, APF-100.

[FR Doc. 03-17118 Filed 7-07-03; 8:45 am]

BILLING CODE 4910-13-M